DEPARTMENT OF COMMERCE

National Oceanic and Atmospheric Administration

RIN 0648-XD285

Endangered and Threatened Species; Take of Anadromous Fish

AGENCY: National Marine Fisheries Service (NMFS), National Oceanic and Atmospheric Administration (NOAA), Commerce.

ACTION: Application to modify one scientific research permit.

SUMMARY: Notice is hereby given that NMFS has received one scientific research permit application request relating to Pacific salmon. The proposed research is intended to increase knowledge of species listed under the Endangered Species Act (ESA) and to help guide management and conservation efforts. The application may be viewed online at: https://apps.nmfs.noaa.gov/preview/preview_open_for_comment.cfm.

DATES: Comments or requests for a public hearing on the applications must be received at the appropriate address or fax number (see ADDRESSES) no later than 5 p.m. Pacific standard time on June 9, 2014.

ADDRESSES: Written comments on the application should be sent to the Protected Resources Division, NMFS, 1201 NE Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): endangered Upper Columbia River (UCR) spring-run.

Steelhead (O. mykiss): threatened UCR; threatened Snake River (SR); threatened middle Columbia River (MCR).

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 16329—2M

The Oregon Department of Environmental Quality (DEQ) is seeking to modify a five-year permit that currently allows it to take adult and juvenile fish throughout Oregon. By modifying the permit, they would add adult and juvenile UCR Chinook and steelhead, MCR steelhead, and SR steelhead to the species of fish they may take. The fish would be taken during the course of five possible projects: (1) The National Streams and Rivers Assessment. This EPA-sponsored survey uses a random sampling design to estimate the health (in terms of water quality and other physical and biological parameters) of streams and rivers around the region and nation. The fish portion of the project looks at species assemblage as an indicator of a system's overall ecological integrity, evaluates presence of invasive fish species, and evaluates toxic contamination of fish tissue. Field work is planned for this project in 2014 and possibly future years and may involve as many as 60 sites. (2) Oregon Toxics Monitoring Program. This program looks at a range of pollutants in water, river sediments, and fish tissues-including current use and legacy pesticides, estrogenic compounds, pharmaceutical and personal care products, metals, and industrial chemicals such as PCBs, dioxins and furans. The species targeted for this work are typically bass and pikeminnow. Survey sites are typically at the downstream portion of larger rivers and tributaries. This work may involve as many as 20 sites per year. (3) Basins Biological Assessments. The DEQ is developing a monitoring program that looks at a range of environmental health indicators (such as fish species) on a basin scale. This work would feed into that effort. (4) Mixing Zone Surveys. Mixing zones are sections of water bodies downstream of municipal and industrial effluent discharges. The DEQ occasionally monitors fish use and health within and outside mixing zones to evaluate how effectively waste treatment protocols and processes are protecting the environment. Mixing zones are typically found in larger rivers. This work may involve as many as 10 sites per year. (5) Spill impact and cleanup effectiveness evaluations. The DEQ occasionally studies water bodies that have received toxic spills. These surveys could potentially occur in any state water body and could involve as many as five sites per year.

The work would benefit fish in a number of different ways-from helping evaluate watershed health to generating information on contaminant concentrations to determining if current water quality protection regulations and methods are sufficiently effective. The DEQ researchers would capture fish using a variety of methods: boat- and backpack electrofishing, hook-and-line angling, and seines. No drugs or anesthesia would be used on the captured fish. The fish would be held very briefly and, except for brief transfers and some minimal measuring and weighing, the animals would not be handled out of water. All fish would be returned to the capture sites as quickly as possible. The researchers do not intend to kill any listed salmonids, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: May 5, 2014.
Angela Somma,
Chief, Endangered Species Division, Office of Protected Resources, National Marine Fisheries Service.

[FR Doc. 2014-10574 Filed 5-7-14; 8:45 am]

BILLING CODE 3510-22-P